DEPARTMENT OF JUSTICE

Notice of Lodging of Consent Decree Pursuant to the Comprehensive Environmental Response, Compensation, and Liability Act

In accordance with Departmental policy, 28 CFR 50.7, notice is hereby given that on June 6, 2001, a proposed Consent Decree (“Decree”) in United States v. Central Illinois Public Service Company, et al., Civil Action No. 01-00586CV-W1 (W.D. Missouri) was lodged with the United States District Court for the Western District of Missouri.

The United States brought this action on behalf of the United States Environmental Protection Agency (“EPA”) against Defendants Central Illinois Public Service Company, Central Louisiana Electric Company, Inc., Colorado Springs Department of Utilities, Commonwealth Edison Company, General Motors Corporation, Illinois Power Company, Interstate Power Company, Kansas Power & Light Company, Louisiana Power & Light Company/New Orleans Public Service, Inc., Midwest Energy Systems, Inc., Missouri Public Service Company, New England Power Service Company, Oklahoma Gas & Electric Company, Omaha Public Power District, Southwestern Electric Power Company, and West Texas Utilities Company (“Settling Defendants”) pursuant to Sections 107 and 113(g)(2) of the Comprehensive Environmental Response, Compensation and Liability Act, as amended, 42 U.S.C. 9607 and 9613(g)(2), for declaratory relief and recovery of certain past response costs incurred by the United States in connection with the Martha C. Rose Chemicals, Inc. Superfund Site (“Site”) located in Holden, Missouri. The Decree provides that the Settling Defendants will pay $173,700.49 in satisfaction of the United States' claims against them.

The Department of Justice will receive, for a period of thirty (30) days from the date of this publication, comments relating to the Decree. Comments should be addressed to the Assistant Attorney General, Environment and Natural Resources Division, P.O. Box 7611, U.S. Department of Justice, Washington, DC 20044-7611, and should refer to United States v. Central Illinois Public Service Company, et al., Civil Action No. 01-00586CV-W1, D.J. Ref. No. 90-11-2-226C.

The Decree may be examined at the Office of the United States Attorney for the Western District of Missouri, Charles Evans Whittaker Courthouse, Fifth Floor, 400 East 9th Street, Kansas City, Missouri 64106, and at U.S. EPA Region VII, 901 N. 5th Street, Kansas City, Kansas 66101. A copy of the Decree may also be obtained by mail from the Consent Decree Library, P.O. Box 7611, U.S. Department of Justice, Washington, DC 20044-7611. In requesting a copy, please enclose a check in the amount of $9.75 (25 cents per page reproduction cost) payable to the Consent Decree Library.

Robert E. Maher,
Assistant Chief, Environmental Enforcement Section, Environment and Natural Resources Division.

[FR Doc. 01-15670 Filed 6-21-01; 8:45 am]

BILLING CODE 4410-15-M